DEPARTMENT OF THE INTERIOR

Bureau of Land Management

[WY-923-1310-FI; WYW137447]

Wyoming: Proposed Conversion of Unpatented Oil Placer Mining Claim Buffalo 19 WMC-71464 to Noncompetitive Oil and Gas Lease

AGENCY: Bureau of Land Management, Interior.

ACTION: Notice of Proposed Conversion of Unpatented Oil Placer Mining Claim to Noncompetitive Oil and Gas Lease.

SUMMARY: The Mineral Leasing Act provides a means by which a mining claimant may seek to convert an oil placer mining claim to a noncompetitive oil and gas lease if the claim was deemed conclusively abandoned because of the claimant's failure to timely file certain assessment work filings required by the Federal Land Policy and Management Act (FLPMA). 30 U.S.C. 188(f). Since 1993, Congress has required annual maintenance fees in lieu of the assessment work filings required by FLPMA. On August 31, 1994, MW Petroleum Corporation and its co-claimants failed to pay the annual maintenance fee for oil placer mining claim, WMC-71464. On May 31, 1995, the Bureau of Land Management (BLM) notified MW Petroleum and its co-claimants that the oil placer mining claim was null and void by operation of law. On August 24, 1995, in accordance with the requirements outlined in 30 U.S.C. 188(f), MW Petroleum Corporation filed a petition for conversion of the abandoned unpatented oil placer mining claim to a noncompetitive oil and gas lease. The claim to be converted is the Buffalo 19 unpatented oil placer mining claim, which is located in Park County, Wyoming. The description of the land is as follows:

T. 48 N., R. 100 W., 6th PM, WY

Sec. 35: SW

Containing 160.00 acres.

The unpatented oil placer mining claim was validly located before February 24, 1920, and is currently producing gas. The mining claim was deemed null and void by operation of law because of the claimant's failure to timely pay the maintenance fee required by the Omnibus Budget Reconciliation Act of August 10, 1993, Pub. L. No. 105-240, § 116. The statutory forfeiture date was August 31, 1994. MW Petroleum has shown to the BLM's satisfaction that its failure to pay the maintenance fee was inadvertent. In 1998, MW Petroleum Corporation and Apache Corporation merged into one company, known by the name Apache Corporation. Consequently, when issued, the lease will be issued to Apache Corporation. The lease will be effective August 31, 1994, the statutory date of abandonment of the mining claim. The BLM has not issued any other oil and gas lease affecting any of the lands covered by the abandoned oil placer mining claim. The prospective lessee has agreed to the noncompetitive oil and gas lease terms. The BLM has assigned serial number WYW 137447 to the proposed noncompetitive lease and will issue the lease thirty days after the publication date of this Federal Register notice.

FOR FURTHER INFORMATION CONTACT: Bureau of Land Management, Pamela J. Lewis, Chief, Branch of Fluid Minerals Adjudication, at (307) 775-6176.

SUPPLEMENTARY INFORMATION: The prospective lessee has paid the required $500 administrative fee and $125 to reimburse the Department for the cost of this Federal Register notice. In addition, the prospective lessee has paid all back rental and royalties from September 1994, to the present. MW Petroleum Corporation has submitted production reports for the period from September 1994, to present. The production during this period was approximately 5,242 MCF of gas. The noncompetitive oil and gas lease will require rental at $5 per acre or fraction thereof per year and royalty at the rate of 12½ percent.

Pamela J. Lewis,
Chief, Branch of Fluid Minerals Adjudication.

[FR Doc. E7-11619 Filed 6-15-07; 8:45 am]

BILLING CODE 4310-22-P